DEPARTMENT OF HOMELAND SECURITY

Transportation Security Administration

Intent To Request Extension From OMB of One Current Public Collection of Information: TSA Airspace Waiver Program

AGENCY: Transportation Security Administration, Homeland Security (DHS).

ACTION: 60-Day notice.

SUMMARY: The Transportation Security Administration (TSA) invites public comment on one currently approved Information Collection Request (ICR), Office of Management and Budget (OMB) control number 1652-0033, that we will submit to OMB for an extension in compliance with the Paperwork Reduction Act (PRA). The ICR describes the nature of the information collection and its expected burden. The collection of information allows TSA to conduct security threat assessments on individuals on board aircraft operating in restricted airspace pursuant to an airspace waiver or flight authorization.

DATES: Send your comments by November 19, 2021.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0033; TSA Airspace Waiver Program. TSA is seeking approval to extend this collection of information. The airspace waiver program allows U.S. and foreign general aviation aircraft operators to apply for approval to operate in U.S. restricted airspace, including flying over the United States and its territories. This program includes both processing of applications for airspace waivers and flight authorizations for flights operating under the Ronald Reagan Washington National Airport (DCA) Access Standard Security Program (see subpart B of 49 CFR part 1562), which requires name-based security threat assessments (STAs) for all passengers, flight crews and armed security officers on board each flight. TSA uses the information to conduct STAs of persons on these flights to protect against and mitigate threats to transportation or national security.

TSA collects information from applicants applying for a waiver or flight authorization either online via https://waivers.faa.gov, or by completing a waiver or flight authorization form, which can be requested via facsimile. To ensure adequate time to process the information and obtain approval, TSA recommends that applicants submit the request electronically within five business days before the start-date of the flight.

The type of information collected depends upon the purpose of the application. Both waiver and flight authorization requests must include the purpose of the flight, the aircraft type and registration number, including aircraft operator's company name and address, and the proposed itinerary. When applying for a waiver, the aircraft operator must submit the above information about the flight and provide the names, dates and places of birth, and Social Security or passport numbers for all passengers and crew on board the flight for TSA to perform a STA on each individual. Likewise, to obtain a flight authorization, the aircraft operator must submit the same information as for when applying for waiver on all passengers and flight crews, and as well as for armed security officers on board each flight for TSA to perform a name-based STA on each individual. The information collected about passengers, crew, and armed security officers, as applicable, must include names, dates and places of birth, and Social Security or passport numbers.

The estimated number of respondents is 8,801, and the annual reporting burden is 6,785 hours.

Dated: September 15, 2021.
Christina A. Walsh,
TSA Paperwork Reduction Act Officer, Office of Information Technology.

[FR Doc. 2021-20293 Filed 9-17-21; 8:45 am]

BILLING CODE 9110-05-P